DEPARTMENT OF COMMERCE

Foreign-Trade Zones Board

[Order No. 2091]

Expansion of Foreign-Trade Zone 116; Port Arthur, Texas

Pursuant to its authority under the Foreign-Trade Zones Act of June 18, 1934, as amended (19 U.S.C. 81a-81u), the Foreign-Trade Zones Board (the Board) adopts the following Order:

Whereas, the Foreign-Trade Zones (FTZ) Act provides for “ . . . the establishment . . . of foreign-trade zones in ports of entry of the United States, to expedite and encourage foreign commerce, and for other purposes,” and authorizes the Board to grant to qualified corporations the privilege of establishing foreign-trade zones in or adjacent to U.S. Customs and Border Protection ports of entry;

Whereas, Foreign-Trade Zone of Southeast Texas, Inc., grantee of Foreign-Trade Zone 116, submitted an application to the Board for authority to expand FTZ 116—Site 1 to include the entire 149-acre Port of Port Arthur facilities (encompassing the existing 6.12 acres) in Port Arthur, Texas, adjacent to the Port Arthur-Beaumont Customs and Border Protection port of entry (B-24-2019, docketed April 11, 2019);

Whereas, notice inviting public comment has been given in the Federal Register (84 FR 16002, April 17, 2019) and the application has been processed pursuant to the FTZ Act and the Board's regulations; and,

Whereas, the Board adopts the findings and recommendations of the examiner's report, and finds that the requirements of the FTZ Act and the Board's regulations are satisfied;

Now, therefore, the Board hereby orders:

The application to expand FTZ 116 is approved, subject to the FTZ Act and the Board's regulations, including Section 400.13.

Dated: January 27, 2020.
Jeffrey I. Kessler,
Assistant Secretary for Enforcement and Compliance, Alternate Chairman, Foreign-Trade Zones Board.

[FR Doc. 2020-01838 Filed 1-30-20; 8:45 am]

BILLING CODE 3510-DS-P